DEPARTMENT OF ENERGY

Federal Energy Regulatory Commission

[Docket No. EC02-22-000, et al.]

UtiliCorp United Inc., et al.; Electric Rate and Corporate Regulation Filings

November 21, 2001.

Take notice that the following filings have been made with the Commission:

1. UtiliCorp United Inc.

[Docket No. EC02-22-000]

Take notice that on November 15, 2001, UtiliCorp United Inc. filed with the Federal Energy Regulatory Commission (Commission) a supplement to its application for Commission approval pursuant to section 203 of the Federal Power Act and section 33 of the Commission's regulations for authorization to reacquire the approximately 10 percent of the shares of Aquila, Inc. held by the public.

Comment date: December 4, 2001, in accordance with Standard Paragraph E at the end of this notice.

2. UtiliCorp United Inc.

[Docket No. EC02-24-000]

Take notice that on November 14, 2001, as supplemented on November 15, 2001, UtiliCorp United Inc. (UtiliCorp) filed with the Federal Energy Regulatory Commission (Commission) an application for approval of the transfer of operational control over certain specified transmission facilities of its Missouri Public Service, St. Joseph Light and Power and WestPlains Energy-Kansas divisions to the Midwest Independent System Operator, Inc. pursuant to section 203 of the Federal Power Act and section 33 of the Commission's regulations. The specified facilities were omitted from UtiliCorp's August 20, 2001 application in Docket No. EC01-142-000.

Comment date: December 5, 2001, in accordance with Standard Paragraph E at the end of this notice.

3. Mirant Zeeland, LLC

[Docket No. EG02-31-000]

Take notice that on November 16, 2001, Mirant Zeeland, LLC tendered for filing with the Federal Energy Regulatory Commission (Commission) an application for determination of exempt wholesale generator status pursuant to part 365 of the Commission's regulations.

Mirant Zeeland is a Delaware limited liability company that intends to construct, own, and operate a 568 MW generation facility at a site in Zeeland, Michigan. Mirant Zeeland is engaged directly and exclusively in the business of owning or operating, or both owning and operating, all or part of one or more eligible facilities and selling electric energy at wholesale.

Comment date: December 12, 2001, in accordance with Standard Paragraph E at the end of this notice. The Commission will limit its consideration of comments to those that concern the adequacy or accuracy of the application.

4. San Diego Gas & Electric Company (Complainant, v. Sellers of Energy and Ancillary and Services Into Markets Operated By the California Independent System Operator and the California Power Exchange, Respondents, et al.)

[Docket Nos. EL00-95-051 and EL00-98-045]

Take notice that on November 7, 2001, and November 8, 2001 Errata, the California Independent System Operator Corporation (ISO) submitted a filing with the Federal Energy Regulatory Commission (Commission) to comply with the Commission's October 23, 2001 “Order Accepting in Part and Rejecting in Part Portion of Compliance Filing Related to Outage Coordination,” San Diego Gas & Electric Company, et al., 97 FERC ¶61,066.

The ISO states that it has served copies of this filing upon the Public Utilities Commission of the State of California, all parties of the official service lists maintained by the Secretary for Docket Nos. EL00-95-000, et al., and all entities that have entered into Participating Generator Agreements with the ISO.

Comment date: December 7, 2001, in accordance with Standard Paragraph E at the end of this notice.

5. International Transmission Company

[Docket No. ER02-351-000]

Take notice that on November 16, 2001, International Transmission Company (ITC) tendered for filing with the Federal Energy Regulatory Commission (Commission) the Generator Interconnection and Operating Agreement between ITC and DTE East China LLC (the Agreement), as a service agreement under ITC's Open Access Transmission Tariff (FERC Electric Tariff, Original Volume No. 1) and is designated as Service Agreement No. 130. The Agreement provides the general terms and conditions for the interconnection and parallel operation of East China's electric generating facility located in East China township, Michigan. The Agreement shall continue from the effective date through the date on which the Facility permanently ceases commercial operations unless terminated earlier as permitted and provided for under the Agreement.

Comment date: December 7, 2001, in accordance with Standard Paragraph E at the end of this notice.

6. Southern Company Services, Inc.

[Docket No. ER02-352-000]

Take notice that on November 16, 2001, Southern Company Services, Inc., as agent for Georgia Power Company (Georgia Power), tendered for filing the Interconnection Agreement between Georgia Power and Southern Power Company (Southern Power) for Goat Rock CC Unit 2 (the Agreement), as a service agreement under Southern Operating Companies' Open Access transmission tariff (FERC Electric Tariff, Fourth Revised Volume No. 5) and is designated as Service Agreement No. 417. The Agreement provides the general terms and conditions for the interconnection and parallel operation of Southern Power's electric generating facility located in Lee County, Alabama. The Agreement terminates forty (40) years from the effective date unless terminated earlier by mutual written agreement.

Comment date: December 7, 2001, in accordance with Standard Paragraph E at the end of this notice.

7. Commonwealth Edison Company

[Docket No. ER02-353-000]

Take notice that on November 16, 2001 Commonwealth Edison Company (ComEd) submitted for filing two Form of Service Agreements for Firm Point-To-Point Transmission Service between ComEd and Alliant Energy (Alliant), one Form of Service Agreement for Firm Point-To-Point Transmission Service between ComEd and Dynegy Power Marketing, Inc. (Dynegy), and five Form of Service Agreements for Firm Point-To-Point Transmission Service between ComEd and Exelon Generation Company, LLC (Exelon) under the terms of ComEd's Open Access Transmission Tariff (OATT). Copies of this filing were served on Alliant, Dynegy and Exelon.

ComEd requests an effective date of January 1, 2002, for the Service Agreements with Alliant, Dynegy and Exelon, and accordingly seeks waiver of the Commission's notice requirements.

Comment date: December 7, 2001, in accordance with Standard Paragraph E at the end of this notice.

8. California Independent System Operator Corporation

[Docket No. ER02-354-000]

Take notice that on November 16, 2001, the California Independent System Operator Corporation (ISO) tendered for filing First Revised Service Agreement No. 410 Under ISO Rate Schedule No. 1, which is a Participating Generator Agreement (PGA) between the ISO and County Sanitation District No. 2 of Los Angeles County. The ISO has revised the PGA to update the list of generating units listed in Schedule 1 of the PGA. The ISO requests that the agreement be made effective as of August 22, 2001.

The ISO states that this filing has been served on County Sanitation District No. 2 of Los Angeles County and the California Public Utilities Commission.

Comment date: December 7, 2001, in accordance with Standard Paragraph E at the end of this notice.

9. New York State Electric & Gas Corporation

[Docket No. ER02-355-000]

Take notice that on November 16, 2001, New York State Electric & Gas Corporation (NYSEG) tendered for filing with the Federal Energy Regulatory Commission (Commission) pursuant to Section 35.13 of the Commission's Regulations, 18 CFR 35.13 (2000), a fully executed service agreement (Service Agreement) between NYSEG and Kaleida Health (Kaleida). Under the Service Agreement, NYSEG may provide capacity and/or energy to in accordance with NYSEG's FERC Electric Tariff, Original Volume No. 3.

NYSEG has requested wavier of the notice requirements that the Service Agreement becomes effective as of September 26, 2001. NYSEG has served a copy of this filing upon the New York State Public Service Commission and Kaleida.

Comment date: December 7, 2001, in accordance with Standard Paragraph E at the end of this notice.

10. New York State Electric & Gas Corporation

[Docket No. ER02-356-000]

Take notice that on November 16, 2001, New York State Electric & Gas Corporation (NYSEG) tendered for filing pursuant to Section 35.13 of the Commission's Regulations, 18 CFR 35.13 (2000), a fully executed service agreement (Service Agreement) between NYSEG and Pro-Energy Development, LLC d/b/a Pro-Energy Resources (Pro-Energy). Under the Service Agreement, NYSEG may provide capacity and/or energy to Pro-Energy in accordance with NYSEG's FERC Electric Tariff, Original Volume No. 3.

NYSEG has requested wavier of the notice requirements that the Service Agreement becomes effective as of September 28, 2001. NYSEG has served a copy of this filing upon the New York State Public Service Commission and Pro-Energy.

Comment date: December 7, 2001, in accordance with Standard Paragraph E at the end of this notice.

11. Cleco Power LLC

[Docket No. ER02-357-000]

Take notice that on November 16, 2001, Cleco Power LLC (Cleco) filed with the Federal Energy Regulatory Commission (Commission) a Service Agreement for Sale of Power and Energy with the City of Natchitoches, Louisiana as a long-term service agreement under Cleco's market based rates tariff. The Service Agreement is designated as Cleco Power LLC Service Agreement No. 26 to FERC Electric Tariff, Original Volume No. 2.

Comment date: December 7, 2001, in accordance with Standard Paragraph E at the end of this notice.

12. Pacific Gas and Electric Company

[Docket No. ER02-358-000]

Take notice that on November 16, 2001, Pacific Gas and Electric Company (PG&E) tendered for filing with the Federal Energy Regulatory Commission (Commission) a Notice of Termination of the 1983 Interconnection Agreement between PG&E and Silicon Valley Power (SVP) on file with the Commission as First Revised PG&E Rate Schedule FERC No. 85 and a proposed Interconnection Agreement (IA) between PG&E and SVP. The IA supersedes the 1983 Interconnection Agreement and is intended to provide for the continued interconnection of the PG&E and SVP electric systems.

Copies of this filing have been served upon SVP, the California Independent System Operator Corporation and the California Public Utilities Commission.

Comment date: December 7, 2001, in accordance with Standard Paragraph E at the end of this notice.

13. New York State Electric & Gas Corporation

[Docket No. ER02-359-000]

Take notice that on November 16, 2001, New York State Electric & Gas Corporation (NYSEG) tendered for filing with the Federal Energy Regulatory Commission (Commission) pursuant to Section 35.13 of the Commission's Regulations, 18 CFR 35.13 (2000), a fully executed service agreement (Service Agreement) between NYSEG and Wegman's Food Markets, Inc. (Wegman). Under the Service Agreement, NYSEG may provide capacity and/or energy to Wegmen in accordance with NYSEG's FERC Electric Tariff, Original Volume No. 3.

NYSEG has requested wavier of the notice requirements that the Service Agreement becomes effective as of September 28, 2001. NYSEG has served a copy of this filing upon the New York State Public Service Commission and Wegmen.

Comment date: December 7, 2001, in accordance with Standard Paragraph E at the end of this notice.

Standard Paragraph

E. Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket #” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-29617 Filed 11-28-01; 8:45 am]

BILLING CODE 6717-01-P